DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Printing and Publishing Activities, OMB Control Number 1910-0100. The Congressional Joint Committee on Printing requires the collection of this data. The Department reports on information gathered and compiled from its facilities nation-wide on the usage of in-house printing and duplicating activities as well as all printing production from external Government Printing Office (GPO) and GPO vendors.

DATES: Comments regarding this collection must be received on or before July 7, 2014. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503 and to: Joseph Whitford, U.S. Department of Energy, Printing Team Leader, MA-42, 1000 Independence Ave. SW., Washington, DC 20585 or by fax at (202) 586-5460 or by email at joseph.whitford@hq.doe.gov.

FOR FURTHER INFORMATION CONTACT: Joseph Whitford at the address listed above.

SUPPLEMENTARY INFORMATION: This information collection request contains: (1) OMB No.: 1910-0100; (2) Information Collection Request Title: Department of Energy Printing and Publishing Activities; (3) Type of Request: Renewal; (4) Purpose: The Congressional Joint Committee on Printing requires the collection of this data: The Department reports on information gathered and compiled from its facilities nation-wide on the usage of in-house printing and duplicating activities as well as all printing production from external Government Printing Office (GPO) and GPO vendors; (5) Annual Estimated Number of Respondents: 232; (6) Annual Estimated Number of Total Responses: 232; (7) Annual Estimated Number of Burden Hours: 1,768; (8) Annual Estimated Reporting and Recordkeeping Cost Burden: The estimated annualized cost to the Federal government resulting from the collection of this information is $13,030.20.

Statutory Authority: This information is reported to the Congressional Joint Committee on Printing pursuant to its regulations. Joint Committee on Printing, Government Printing and Binding Regulations, Title IV, Rules 48-55 (Feb. 1990), in S. Pub. No. 101-9, 101st Cong., 2d Sess., at 27-29 (1990).

Issued in Washington, DC, on June 2, 2014.
Joseph Whitford,
Printing Team Leader, Office of Administrative Management and Support.

[FR Doc. 2014-13049 Filed 6-4-14; 8:45 am]

BILLING CODE 6450-01-P